FEDERAL TRADE COMMISSION

Agency Information Collection Activities; Submission for OMB Review; Comment Request

AGENCY: Federal Trade Commission (“FTC” or “Commission”).

ACTION: Notice.

SUMMARY: The FTC intends to survey consumers to advance its understanding of the incidence of identity theft (“ID Theft”) and to allow the FTC to better serve the people who experience ID Theft and the law enforcement agencies that investigate and prosecute it. The survey is a follow-up to the FTC's ID Theft Survey conducted in March 2003 and released in September 2003. Before gathering this information, the FTC is seeking public comments on its proposed consumer research. The information collection requirements described below will be submitted to the Office of Management and Budget (“OMB”) for review, as required by the Paperwork Reduction Act (“PRA”) (44 U.S.C. 3501-3520).

DATES: Comments on the proposed information requests must be received on or before December 19, 2005.

ADDRESSES: Interested parties are invited to submit written comments. Comments should refer to “ID Theft Survey: FTC File No. P034303” to facilitate the organization of comments. A comment filed in paper form should include this reference both in the text and on the envelope and should be mailed or delivered, with two complete copies, to the following address: Federal Trade Commission/Office of the Secretary, Room H-135 (Annex E), 600 Pennsylvania Avenue, NW., Washington, DC 20580. Because paper mail in the Washington area and at the Commission is subject to delay, please consider submitting your comments in electronic form, as prescribed below. However, if the comment contains any material for which confidential treatment is requested, it must be filed in paper form, and the first page of the document must be clearly labeled “Confidential.” ¹ The FTC is requesting that any comment filed in paper form be sent by courier or overnight service, if possible.

¹ Commission Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by clicking on the following Web link: https://secure.commentworks.com/FTC-IDTSurvey and following the instructions on the Web-based form. To ensure that the Commission considers an electronic comment, you must file it on the Web-based form at https://secure.commentworks.com/FTC-IDTSurvey. If this notice appears at http://www.regulations.gov, you may also file an electronic comment through that Web site. The Commission will consider all comments that regulations.gov forwards to it.

Comments should also be submitted to: Office of Management and Budget, Attention: Desk Officer for the Federal Trade Commission. Comments should be submitted via facsimile to (202) 395-6974 because U.S. Postal Mail is subject to lengthy delays due to heightened security precautions.

The FTC Act and other laws the Commission administers permit the collection of public comments to consider and use in this proceeding as appropriate. All timely and responsive public comments will be considered by the Commission and will be available to the public on the FTC Web site, to the extent practicable, at www.ftc.gov. As a matter of discretion, the FTC makes every effort to remove home contact information for individuals from the public comments it receives before placing those comments on the FTC Web site. More information, including routine uses permitted by the Privacy Act, may be found in the FTC's privacy policy at http://www.ftc.gov/ftc/privacy.htm.

FOR FURTHER INFORMATION CONTACT: Requests for additional information or copies of the proposed collection of information, should be addressed to Joanna P. Crane, Program Manager, Federal Trade Commission ID Theft Program, 600 Pennsylvania Avenue, NW., Washington, DC 20580. Telephone: (202) 326-3228.

SUPPLEMENTARY INFORMATION: In March 2003, OMB approved the FTC's request to conduct a survey on ID Theft and assigned OMB Control Number 3084-0124. The FTC completed the consumer research in April 2003 and issued its report, Federal Trade Commission—Identity Theft Survey Report, in September 2003.² On August, 25, 2005, the FTC published a Federal Register Notice seeking comments from the public concerning a new survey that would follow up on the 2003 survey. See 70 FR 49924. No comments were received. Pursuant to the OMB regulations that implement the PRA (5 CFR Part 1320), the FTC is providing this second opportunity for public comment while requesting that OMB reinstate the clearance for the survey. All comments should be filed as prescribed in the ADDRESSES section above, and must be received on or before December 19, 2005.

² The Report is available at http://www.ftc.gov/os/2003/09/synovatereport.pdf.

Description of the Collection of Information and Proposed Use

The FTC proposes to survey up to 5,000 consumers in order to gather specific information on the incidence of ID Theft in the general population. All information will be collected on a voluntary basis, and the identities of the consumers will remain confidential. The FTC has contracted with a consumer research firm to identify consumers and conduct the survey. The results will assist the FTC in determining the incidence of ID Theft in the general population, whether the type and frequency of ID Theft is changing, and how best to combat ID Theft.

ID Theft has been the top consumer complaint reported to the FTC since calendar year 2000. The information collected by the survey will ensure that the FTC has accurate and timely information on the extent of ID Theft and its impact on victims. This information will be highly useful to Congress and others who often request statistical information on ID Theft from the FTC.

The FTC intends to use a larger sample size than the 2003 survey to allow for a more in-depth analysis of the resulting data. The additional data points should produce statistically significant samples for particular types of fraud and particular demographic characteristics. The questions will be very similar to the 2003 survey so that the results from the 2003 survey can be used as a baseline for a time-series analysis.³ The FTC may conduct another follow-up survey in approximately two years.

³ The questionnaire for the 2003 survey is available as Appendix A to the Report.

Estimated Hours Burden

The consumer research firm will pretest the survey on approximately 100 respondents to ensure that all questions are easily understood. This pretest will take approximately 3 minutes per person and 5 hours as a whole (100 respondents × 3 minutes each). Based on FTC staff's experience with the 2003 survey, the staff estimates that approximately 12 percent of those interviewed will have experienced ID Theft within the last 5 years. Survey participants who have not experienced ID Theft in this period of time will only be asked the initial 4 to 5 survey questions. The staff expects that this will take less than 2 minutes. For those who have experienced ID Theft in the last 5 years, our experience with the earlier survey suggests that it will take about 12 to 15 minutes to complete the survey. The staff therefore anticipates that the average time per survey participant will be approximately 3 minutes. Answering the consumer survey will require approximately 250 hours as a whole (5,000 respondents × 3 minutes each). Thus, cumulative total burden hours for the first year of the clearance will approximate 255 hours.

Estimated Cost Burden

The cost per respondent should be negligible. Participation is voluntary and will not require start-up, capital, or labor expenditures by respondents.

William Blumenthal,
General Counsel.

[FR Doc. 05-22849 Filed 11-17-05; 8:45 am]

BILLING CODE 6750-01-P